ENVIRONMENTAL PROTECTION AGENCY

40 CFR Part 52

[EPA-R06-OAR-2006-0593; FRL-9905-07-Region-6]

Approval and Promulgation of Implementation Plans; Texas; Control of Air Pollution by Permits for New Construction or Modification; Permits for Specific Designated Facilities

AGENCY: Environmental Protection Agency (EPA).

ACTION: Withdrawal of direct final rule.

SUMMARY: On November 21, 2013, the Environmental Protection Agency (EPA) published a direct final rule approving portions of two revisions to the Texas State Implementation Plan (SIP) concerning the Permits for Specific Designated Facilities Program, also referred to as the FutureGen Program. The direct final action was published without prior proposal because EPA anticipated no adverse comments. EPA stated in the direct final rule that if we received relevant, adverse comments by December 23, 2013, EPA would publish a timely withdrawal in the Federal Register. EPA received a letter dated December 19, 2013, from the Texas Commission on Environmental Quality stating that the March 9, 2006, and July 2, 2010, SIP revisions specific to the FutureGen program have been withdrawn from our consideration as revisions to the Texas SIP. Accordingly, EPA is withdrawing our direct final approval and in a separate rulemaking in today's Federal Register we are also withdrawing the corresponding proposed approval. We find that no further action is necessary on the Texas FutureGen Program March 9, 2006 and July 2, 2010 SIP revisions. The State's action also withdraws from EPA's review the FutureGen Program component of the January 22, 2010 Consent Decree between EPA and the BCCA Appeal Group, Texas Association of Business, and Texas Oil and Gas Association. This withdrawal is being taken under section 110 and parts C and D of the Federal Clean Air Act.

DATES: The direct final rule published on November 21, 2013 (78 FR 69773), is withdrawn effective January 6, 2014.

FOR FURTHER INFORMATION CONTACT: Ms. Adina Wiley (6PD-R), Air Permits Section, Environmental Protection Agency, Region 6, 1445 Ross Avenue (6PD-R), Suite 1200, Dallas, TX 75202-2733. The telephone number is (214) 665-2115. Ms. Wiley can also be reached via electronic mail at wiley.adina@epa.gov.

List of Subjects in 40 CFR Part 52

Environmental protection, Air pollution control, Incorporation by reference, Intergovernmental relations, Reporting and recordkeeping requirements.

Dated: December 20, 2013.
Samuel Coleman,
Acting Regional Administrator, Region 6.

Accordingly, the amendments to 40 CFR 52.2270 published in the Federal Register on November 21, 2013 (78 FR 69773), which were to become effective on January 21, 2014, are withdrawn.

[FR Doc. 2013-31437 Filed 1-3-14; 8:45 am]

BILLING CODE 6560-50-P